DEPARTMENT OF ENERGY

Federal Energy Regulatory Commission

[Project No. 5261-022]

Notice of Intent To File License Application, Filing of Pre-Application Document, and Approving Use of the Traditional Licensing Process: Green Mountain Power Corporation

a. Type of Filing: Notice of Intent to File License Application and Request to Use the Traditional Licensing Process.

b. Project No.: 5261-022.

c. Date Filed: August 29, 2018.

d. Submitted By: Green Mountain Power Corporation.

e. Name of Project: Newbury Project.

f. Location: On the Wells River in the Town of Newbury, Orange County, Vermont. No federal lands are occupied by the project works or located within the project boundary.

g. Filed Pursuant to: 18 CFR 5.3 and 5.5 of the Commission's regulations.

h. Potential Applicant Contact: Jason Lisai, Director of Generation Operations, Green Mountain Power Corporation, 163 Acorn Lane, Colchester, VT 05446; (802) 655-8723; email at Jason.Lisai@greenmountainpower.com.

i. FERC Contact: John Baummer at (202) 502-6837; or john.baummer@ferc.gov.

j. Green Mountain Power filed its request to use the Traditional Licensing Process on August 29, 2018, and provided public notice of the request on August 28, 2018. In a letter dated October 26, 2018, the Director of the Division of Hydropower Licensing approved Green Mountain Power's request to use the Traditional Licensing Process.

k. With this notice, we are initiating informal consultation with the U.S. Fish and Wildlife Service and NOAA Fisheries under section 7 of the Endangered Species Act and the joint agency regulations thereunder at 50 CFR part 402; and NOAA Fisheries under section 305(b) of the Magnuson-Stevens Fishery Conservation and Management Act and implementing regulations at 50 CFR 600.920. We are also initiating consultation with the Vermont State Historic Preservation Officer, as required by section 106 of the National Historic Preservation Act, and the implementing regulations of the Advisory Council on Historic Preservation at 36 CFR 800.2.

l. With this notice, we are designating Green Mountain Power as the Commission's non-federal representative for carrying out informal consultation pursuant to section 7 of the Endangered Species Act; and consultation pursuant to section 106 of the National Historic Preservation Act.

m. Green Mountain Power filed a Pre-Application Document (PAD; including a proposed process plan and schedule) with the Commission, pursuant to 18 CFR 5.6 of the Commission's regulations.

n. A copy of the PAD is available for review at the Commission in the Public Reference Room or may be viewed on the Commission's website (http://www.ferc.gov), using the eLibrary link. Enter the docket number, excluding the last three digits in the docket number field to access the document. For assistance, contact FERC Online Support at FERCOnlineSupport@ferc.gov, (866) 208-3676 (toll free), or (202) 502-8659 (TTY). A copy is also available for inspection and reproduction at 2152 Post Road, Rutland, VT 05701.

o. The licensee states its unequivocal intent to submit an application for a subsequent license for Project No. 5261. Pursuant to 18 CFR 16.20, each application for a subsequent license and any competing license applications must be filed with the Commission at least 24 months prior to the expiration of the existing license. All applications for license for this project must be filed by August 31, 2021.

p. Register online at http://www.ferc.gov/docs-filing/esubscription.asp to be notified via email of new filings and issuances related to this or other pending projects. For assistance, contact FERC Online Support.

Dated: October 26, 2018.
Kimberly D. Bose,
Secretary.

[FR Doc. 2018-23995 Filed 11-1-18; 8:45 am]

BILLING CODE 6717-01-P